DEPARTMENT OF DEFENSE

Department of the Army

Availability for Non-Exclusive, Exclusive, or Partially Exclusive Licensing of U.S. Patent Concerning Encapsulated High-Concentration Lipid A Composition as Immunogenic Agents to Produce Human Antibodies to Prevent or Treat Gram Negative Bacterial Infections

AGENCY: Department of the Army, DoD.

ACTION: Notice.

SUMMARY: In accordance with 37 CFR 404.6, announcement is made of the availability for licensing of U.S. Patent No. 5,888,519 entitled “Encapsulated High-Concentration Lipid A Composition as Immunogenic Agents to Produce Human Antibodies to Prevent of Treat Gram Negative Bacterial Infections” issued March 30, 1999. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: This invention is directed to the production of antibodies against lipid A by using encapsulating slow-releasing delivery materials or devices containing concentrations of lipid A that are greater than could be given safely to humans in the absence of said materials or devices. The antibodies to lipid A can be used for binding the antibodies to the lipid A that are present in the lipopolysaccharide that coats the surface of the Gram-negative bacteria.

Luz D. Ortiz,
Army Federal Register Liaison Officer.

[FR Doc. 02-4179 Filed 2-20-02; 8:45 am]

BILLING CODE 3710-08-M